DEPARTMENT OF LABOR

Employment and Training Administration

[TA-W-63,880; TA-W-63,880A; TA-W-63,880B; TA-W-63,880C; TA-W-63,880D; TA-W-63,880E]

Cequent Electrical Products, Inc. Tekonsha, MI; Including Employees in Support of Cequent Electrical Products, Inc., Tekonsha, MI, Working in the Following Locations: Washougal, WA, West Linn, OR, Temecula, CA, Urbandale, IA, Weston, WI; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on November 26, 2008, applicable to workers of Cequent Electrical Products, Inc., Tekonsha, Michigan. The notice was published in the Federal Register on December 10, 2008 (73 FR 75137).

At the request of the State agency, the Department reviewed the certification for workers of the subject firm. The workers are engaged in the production of brake controls, breakaway kits and lights for the automotive and trailer industries.

New information shows that worker separations have occurred involving employees of the Tekonsha, Michigan facility of Cequent Electrical Products, Inc. working out of Washougal, Washington; West Linn, Oregon; Temecula, California; Urbandale, Iowa; and Weston, Wisconsin. Mr. Larry Kelley, Ms. Susan Savage, Mr. Paul Crommelin, Mr. Charles Voorhis and Mr. Michael Vruwink provided sales functions supporting the production of brake controls, breakaway kits and lights for the automotive and trailer industries at the Tekonsha, Michigan location of the subject firm.

Based on these findings, the Department is amending this certification to include employees of the Tekonsha, Michigan, facility of Cequent Electrical Products, Inc. working out of the above-mentioned locations.

The intent of the Department's certification is to include all workers of Cequent Electrical Products, Inc., Tekonsha, Michigan, who were adversely affected by increased imports of brake controls, breakaway kits and lights for the automobile and trailer industries.

The amended notice applicable to TA-W-63,880 is hereby issued as follows:

All workers of Cequent Electrical Products, Inc., Tekonsha, Michigan, including employees of Cequent Electrical Products, Inc., Tekonsha, Michigan working out of Washougal, Washington (TA-W-63,880A), West Linn, Oregon (TA-W-63,880B), Temecula, California (TA-W-63,880C), Urbandale, Iowa (TA-W-63,880D), and Weston, Wisconsin (TA-W-63,880E), who became totally or partially separated from employment on or after August 6, 2007, through November 26, 2010, are eligible to apply for adjustment assistance under Section 223 of the Trade Act of 1974, and are also eligible to apply for alternative trade adjustment assistance under Section 246 of the Trade Act of 1974.

Signed at Washington, DC, this 24th day of December 2008.
Linda G. Poole,
Certifying Officer, Division of Trade Adjustment Assistance.

[FR Doc. E8-31327 Filed 1-5-09; 8:45 am]

BILLING CODE 4510-FN-P